DEPARTMENT OF ENERGY

Federal Energy Regulatory Commission

Combined Notice of Filings #1

Take notice that the Commission received the following electric rate filings:

Docket Numbers: ER20-1148-001.

Applicants: American Transmission Systems, Incorporated, PJM Interconnection, L.L.C.

Description: Compliance filing: FirstEnergy submits on behalf of ATSI et al. OIA, SA No. 2853 Compliance Part 1 to be effective 5/1/2020.

Filed Date: 2/10/21.

Accession Number: 20210210-5035.

Comments Due: 5 p.m. ET 3/3/21.

Docket Numbers: ER20-1148-002.

Applicants: American Transmission Systems, Incorporated., PJM Interconnection, L.L.C.

Description: Compliance filing: FirstEnergy submits on behalf of ATSI et al. OIA, SA No. 2853 Compliance Part 2 to be effective 5/1/2020.

Filed Date: 2/10/21.

Accession Number: 20210210-5036.

Comments Due: 5 p.m. ET 3/3/21.

Docket Numbers: ER21-1076-000.

Applicants: Southwest Power Pool, Inc.

Description: § 205(d) Rate Filing: 3206 WAPA-UGP & Northern States Power Company Att AO Cancel to be effective 12/31/2020.

Filed Date: 2/10/21.

Accession Number: 20210210-5016.

Comments Due: 5 p.m. ET 3/3/21.

Docket Numbers: ER21-1077-000.

Applicants: Southwest Power Pool, Inc.

Description: § 205(d) Rate Filing: 3207 WAPA-UGP & Montana-Dakota Utilities Att AO Cancellation to be effective12/31/2020.

Filed Date: 2/10/21.

Accession Number: 20210210-5023.

Comments Due: 5 p.m. ET 3/3/21.

Docket Numbers: ER21-1078-000.

Applicants: Southwest Power Pool, Inc.

Description: § 205(d) Rate Filing: 3208 WAPA-UGP & Otter Tail Power Company Att AO Cancellation to be effective 12/31/2020.

Filed Date: 2/10/21.

Accession Number: 20210210-5025.

Comments Due: 5 p.m. ET 3/3/21.

Docket Numbers: ER21-1079-000.

Applicants: Southwest Power Pool, Inc.

Description: § 205(d) Rate Filing: 3239 WAPA-UGP & Montana-Dakota Utilities Co. Att AO Cancel to be effective12/31/2020.

Filed Date: 2/10/21.

Accession Number: 20210210-5026.

Comments Due: 5 p.m. ET 3/3/21.

Docket Numbers: ER21-1080-000.

Applicants: Southwest Power Pool, Inc.

Description: § 205(d) Rate Filing: Revisions to Attachment J Schedule 2 to Remove Facilities to be effective4/12/2021.

Filed Date: 2/10/21.

Accession Number: 20210210-5041.

Comments Due: 5 p.m. ET 3/3/21.

Docket Numbers: ER21-1081-000.

Applicants: Eagle Creek Racine Hydro, LLC.

Description: Baseline eTariff Filing: Market Based Rate Application with Requests for Status, Waivers, and Expedition to be effective 4/11/2021.

Filed Date: 2/10/21.

Accession Number: 20210210-5042.

Comments Due: 5 p.m. ET 3/3/21.

Docket Numbers: ER21-1082-000.

Applicants: Tucson Electric Power Company.

Description: § 205(d) Rate Filing: Service Agreement for Firm Long Term Transmission Service to be effective1/11/2021.

Filed Date: 2/10/21.

Accession Number: 20210210-5050.

Comments Due: 5 p.m. ET 3/3/21.

Docket Numbers: ER21-1083-000.

Applicants: Southwest Power Pool, Inc.

Description: § 205(d) Rate Filing: Revisions to Clarify that No Project May Be Authorized from 20-Year Assessment to be effective 4/12/2021.

Filed Date: 2/10/21.

Accession Number: 20210210-5054.

Comments Due: 5 p.m. ET 3/3/21.

Docket Numbers: ER21-1084-000.

Applicants: PJM Interconnection, L.L.C.

Description: § 205(d) Rate Filing: Original WMPA 5966; Queue No. AF1-174 to be effective 1/11/2021.

Filed Date: 2/10/21.

Accession Number: 20210210-5062.

Comments Due: 5 p.m. ET 3/3/21.

Docket Numbers: ER21-1085-000.

Applicants: Midcontinent Independent System Operator, Inc., Otter Tail Power Company.

Description: § 205(d) Rate Filing: 2021-02-10_SA 3633 OTP-MDU T-T (Oakes Ellendale) to be effective1/19/2021.

Filed Date: 2/10/21.

Accession Number: 20210210-5064.

Comments Due: 5 p.m. ET 3/3/21.

Docket Numbers: ER21-1086-000.

Applicants: PJM Interconnection, L.L.C.

Description: § 205(d) Rate Filing: Original WMPA, Service Agreement No. 5976; Queue No. AF1-137 to be effective 1/11/2021.

Filed Date: 2/10/21.

Accession Number: 20210210-5072.

Comments Due: 5 p.m. ET 3/3/21.

Docket Numbers: ER21-1087-000.

Applicants: PJM Interconnection, L.L.C.

Description: Tariff Cancellation: Notice of Cancellation of WMPA, SA No. 4918; Queue No. AC2-072 to be effective 3/22/2021.

Filed Date: 2/10/21.

Accession Number: 20210210-5077.

Comments Due: 5 p.m. ET 3/3/21.

Docket Numbers: ER21-1088-000.

Applicants: New York Independent System Operator, Inc., Niagara Mohawk Power Corporation.

Description: § 205(d) Rate Filing: Joint SGIA among NYISO, NMPC and SunEast Watkins Road Solar (SA2591) to be effective 1/27/2021.

Filed Date: 2/10/21.

Accession Number: 20210210-5081.

Comments Due: 5 p.m. ET 3/3/21.

Docket Numbers: ER21-1089-000.

Applicants: PJM Interconnection, L.L.C.

Description: Tariff Cancellation: Notice of Cancellation of WMPA, SA No. 4953; Queue No. AC2-074 to be effective 3/22/2021.

Filed Date: 2/10/21.

Accession Number: 20210210-5082.

Comments Due: 5 p.m. ET 3/3/21.

Take notice that the Commission received the following electric securities filings:

Docket Numbers: ES21-30-000.

Applicants: Northern Maine Independent Administrator.

Description: Application under Section 204 of the Federal Power Act for Authorization to Issue Securities for Northern Maine Independent Administrator, Inc.

Filed Date: 2/10/21.

Accession Number: 20210210-5074.

Comments Due: 5 p.m. ET 3/3/21

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2021.
Nathaniel J. Davis, Sr.,
Deputy Secretary.

[FR Doc. 2021-03145 Filed 2-16-21; 8:45 am]

BILLING CODE 6717-01-P